DEPARTMENT OF THE INTERIOR

Bureau of Land Management

[WY-957-07-1910-BJ-56KP]

Notice of Filing of Plats of Survey, Nebraska

AGENCY: Bureau of Land Management, Interior.

ACTION: Notice of Filing of Plats of Survey, Nebraska.

SUMMARY: The Bureau of Land Management (BLM) is scheduled to file the plats of surveys of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and are necessary for the management of these lands. The lands surveyed are:

The plat and field notes representing the dependent resurvey of a portion of the Eighth Standard Parallel North, through Range 4 West, portions of the east boundary and subdivisional lines, and the survey of the subdivision of certain sections, Township 33 North, Range 4 West, of the Sixth Prinicipal Meridian, Nebraska, was accepted December 20, 2006.

The plat and field notes representing the dependent resurvey of portions of the east boundary and subdivisional lines, the survey of the subdivision of certain sections, and the retracement of a portion of the U. S. Army Corps of Engineers boundary line, Township 33 North, Range 5 West, of the Sixth Prinicipal Meridian, Nebraska, was accepted December 20, 2006.

Copies of the preceding described plat and field notes are available to the public at a cost of $1.10 per page.

Dated: December 22, 2006.
John P. Lee,
Chief Cadastral Surveyor, Division of Support Services.

[FR Doc. E6-22506 Filed 1-3-07; 8:45 am]

BILLING CODE 4467-22-P